INTERNATIONAL TRADE COMMISSION

[Investigative No. 337-TA-1063]

Certain X-Ray Breast Imaging Devices and Components Thereof; Notice of Commission Decision To Terminate the Investigation Based on Settlement; Termination of the Investigation

AGENCY: U.S. International Trade Commission.

ACTION: Notice.

SUMMARY: Notice is hereby given that the U.S. International Trade Commission has determined to grant the private parties' joint motion to terminate the investigation based on settlement. The investigation is terminated.

FOR FURTHER INFORMATION CONTACT: Amanda Pitcher Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on August 1, 2017, based on a complaint and supplement, filed on behalf of Hologic, Inc. of Marlborough, Massachusetts. 82 FR 35823-24 (Aug. 1, 2017). The complaint, as supplemented, alleges violations of section 337 based upon the importation into the United States, the sale for importation, and the sale within the United States after importation of certain x-ray breast imaging devices and components thereof by reason of infringement of certain claims of U.S. Patent No. 7,831,296; U.S. Patent No. 8,452,379 (“the '379 patent”); U.S. Patent No. 7,688,940; U.S. Patent No. 7,986,765 (“the '765 patent”); and U.S. Patent No. 7,123,684. The complaint further alleges that an industry in the United States exists as required by section 337. The notice of investigation named FUJIFILM Corporation of Tokyo, Japan; FUJIFILM Medical Systems USA, Inc. of Stamford, Connecticut; and FUJIFILM Techno Products Co., Ltd. of Hanamaki-Shi Iwate, Japan (collectively “Fujifilm”) as respondents. The Office of Unfair Import Investigations (“OUII”) was named as a party. On January 18, 2018, the '765 patent was terminated in its entirety from the investigation. See Order No. 18 (Jan. 18, 2018) (unreviewed). On February 27, 2018, claims 6-10 of the '379 patent were terminated from the investigation. See Order No. 21 (Feb. 27, 2018) (unreviewed).

On July 26, 2018, the administrative law judge (“ALJ”) issued the final initial determination (“ID”) in this investigation. The ALJ found that a violation of section 337 has occurred. On October 24, 2018, the Commission determined to review the ID in part. 83 FR 54608-10 (October 30, 3018).

On February 4, 2019, Hologic and Fujifilm filed a joint motion to terminate the investigation based on a settlement. The motion includes both confidential and public versions of the settlement agreement, and the parties represent that there are no other agreements, written or oral, express or implied between them concerning the subject matter of the proceeding. The parties also contend that the termination of the investigation would not adversely affect the public interest. On February 8, 2019, OUII filed a response in support of the motion.

The Commission has determined to grant the joint motion. The Commission finds that the private parties have complied with the Commission's Rules, and that termination of the investigation would not adversely affect the public interest. The investigation is terminated.

The authority for the Commission's determination is contained in section 337 of the Tariff Act of 1930, as amended (19 U.S.C. 1337), and in part 210 of the Commission's Rules of Practice and Procedure (19 CFR part 210).

By order of the Commission.
Issued: February 13, 2019.
Lisa Barton,
Secretary to the Commission.

[FR Doc. 2019-02671 Filed 2-15-19; 8:45 am]

BILLING CODE 7020-02-P